DEPARTMENT OF AGRICULTURE

Animal and Plant Health Inspection Service

[Docket No. APHIS-2020-0071]

Classify Canada as Level I for Bovine Tuberculosis and Brucellosis

AGENCY: Animal and Plant Health Inspection Service, USDA.

ACTION: Notice of availability.

SUMMARY: We are advising the public that we are proposing to classify Canada as Level I for both bovine tuberculosis and brucellosis. This proposed recognition is based on evaluations we have prepared in connection with this action, which we are making available for review and comment.

DATES: We will consider all comments that we receive on or before April 26, 2021.

ADDRESSES: You may submit comments by either of the following methods:

• Federal eRulemaking Portal: Go to www.regulations.gov. Enter APHIS-2020-0071 in the Search field. Select the Documents tab, then select the Comment button in the list of documents.

• Postal Mail/Commercial Delivery: Send your comment to Docket No. APHIS-2020-0071, Regulatory Analysis and Development, PPD, APHIS, Station 3A-03.8, 4700 River Road, Unit 118, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Kelly Rhodes, Senior Staff Veterinarian, Regionalization Evaluation Services, Strategy and Policy, VS, APHIS, USDA, 4700 River Road Unit 38, Riverdale, MD 20737-1231; AskRegionalization@usda.gov; (301) 851-3315.

SUPPLEMENTARY INFORMATION: The regulations in 9 CFR part 93, subpart D (§§ 93.400 through 93.442, referred to below as part 93 or the subpart), contain requirements for the importation of ruminants into the United States to address the risk of introducing or disseminating diseases of livestock within the United States. Part 93 currently contains provisions that address the risk that imported bovines (cattle or bison) may introduce or disseminate bovine tuberculosis or brucellosis within the United States. Within part 93, § 93.437 contains the requirements for classification of foreign regions for bovine tuberculosis and § 93.438 contains the process for requesting regional classification for bovine tuberculosis. In accordance with § 93.437(f), the Animal and Plant Health Inspection Service (APHIS) maintains lists of all Level I, Level II, Level III, Level IV, and Level V regions for bovine tuberculosis and adds foreign regions classified in accordance with § 93.438 to these lists.

Section 93.440 contains the requirements for classification of foreign regions for brucellosis and § 93.441 contains the process for requesting regional classification for brucellosis. In accordance with § 93.440(d), APHIS maintains lists of all Level I, Level II, and Level III regions for brucellosis and adds regions classified in accordance with § 93.441 to these lists.

Paragraph (a) of § 93.438 provides that a representative of a national government with authority to make such a request may request that APHIS classify a region for bovine tuberculosis; paragraph (a) of § 93.441 has a similar provision with respect to requests for brucellosis classification. Within those same sections, paragraph (b) provides that if, after reviewing and evaluating the request for bovine tuberculosis or brucellosis classification, respectively, APHIS believes the region can be accurately classified, APHIS will publish a notice in the Federal Register with the proposed classification and make its evaluation available for public comment. Following the close of the comment period, APHIS will review all comments received and will make a final determination regarding the request that will be detailed in another document published in the Federal Register.

The Government of Canada has requested that APHIS evaluate and classify Canada for bovine tuberculosis and brucellosis. In response to Canada's request, we have prepared two evaluations, titled “APHIS Evaluation of Canada for Bovine Tuberculosis (Mycobacterium bovis) Classification” (April 2020) and “APHIS Evaluation of Canada for Bovine Brucellosis (Brucella abortus) Classification” (May 2020). The evaluations conclude that Canada meets the conditions to be classified as Level I for both bovine tuberculosis and brucellosis, which supports adding Canada to the web-based list of Level I regions for bovine tuberculosis and the web-based list of Level I regions for brucellosis.

Therefore, in accordance with §§ 93.438(b) and 93.441(b), we are announcing the availability of our evaluations of Canada for bovine tuberculosis and brucellosis classification, for public review and comment. We are also announcing the availability of an environmental assessment (EA) that has been prepared in accordance with: (1) The National Environmental Policy Act of 1969 (NEPA), as amended (42 U.S.C. 4321 et seq.), (2) regulations of the Council on Environmental Quality for implementing the procedural provision of NEPA (40 CFR parts 1500-1508), (3) USDA regulations implementing NEPA (7 CFR part 1b), and (4) APHIS' NEPA Implementing Procedures (7 CFR part 372).

The evaluations and EA may be viewed on the Regulations.gov website or in our reading room. (Instructions for accessing Regulations.gov and information on the location and hours of the reading room are provided under the heading ADDRESSES at the beginning of this notice.) The documents are also available by contacting the person listed under FOR FURTHER INFORMATION CONTACT.

Information submitted in support of Canada's request is available by contacting the person listed under FOR FURTHER INFORMATION CONTACT.

After reviewing any comments we receive, we will announce our final determination regarding classification of Canada with respect to bovine tuberculosis and brucellosis in a subsequent notice.

Authority: 7 U.S.C. 1622 and 8301-8317; 21 U.S.C. 136 and 136a; 31 U.S.C. 9701; 7 CFR 2.22, 2.80, and 371.4.

Done in Washington, DC, this 18th day of February 2021.
Michael Watson,
Acting Administrator, Animal and Plant Health Inspection Service.

[FR Doc. 2021-03773 Filed 2-23-21; 8:45 am]

BILLING CODE 3410-34-P